DEPARTMENT OF JUSTICE

Antitrust Division

Notice Pursuant to the National Cooperative Research and Production Act of 1993—Advanced Technology Institute (“ATI”): Forging Defense Manufacturing Consortium (“FDMC”)

Notice is hereby given that, on April 10, 2000, pursuant to section 6(a) of the National Cooperative Research and Production Act of 1993, 15 U.S.C. 4301 et seq. (“the Act”), Advanced Technology Institute (“ATI”) has filed written notifications simultaneously with the Attorney General and the Federal Trade Commission disclosing (1) the identities of the parties and (2) the nature and objectives of the venture. The notifications were filed for the purpose of invoking the Act's provisions limiting the recovery of antitrust plantiffs to actual damages under specified circumstances. Pursuant to section 6(b) of the Act, the identities of the parties are The Advanced Technology Institute, North Charleston, SC; and The Forging Industry Association, Cleveland, OH. The nature and objectives of the venture are to plan, prioritize and implement key research and development initiatives that will provide increased technology and market development within the manufacturing sector and increased US competitiveness in the global marketplace.

Constance K. Robinson,
Director of Operations, Antitrust Division.

[FR Doc. 00-16607 Filed 6-29-00; 8:45 am]

BILLING CODE 4410-11-M